POSTAL SERVICE

39 CFR Part 20

Outbound International Mailings of Lithium Batteries

AGENCY: Postal Service™.

ACTION: Final rule; withdrawal.

SUMMARY: The Postal Service is withdrawing a final rule that would incorporate new maximum limits for the outbound mailing of lithium batteries to international, or APO, FPO or DPO locations. The Postal Service also withdraws the corresponding Code of Federal Regulations revision to reflect these new limits.

DATES: The final rule published on August 25, 2011 (76 FR 53056-56057), is withdrawn effective September 9, 2011.

FOR FURTHER INFORMATION CONTACT: Rick Klutts at 813-877-0372.

SUPPLEMENTARY INFORMATION: In a final rule with comment period published in the Federal Register on August 25, 2011, the Postal Service provided new maximum limits for mailpieces containing equipment with lithium metal or lithium-ion batteries that were to be effective October 3, 2011. These revisions were consistent with recent amendments to the Universal Postal Union (UPU) Convention and regulations as announced in International Bureau Circulars 114 and 115, dated June 14, 2011, that affected UPU Convention Articles 15 and 16, Article RL 131 of the letter post regulations, and Article RC 120 of the parcel post regulations.

The withdrawal of the revisions is necessary because of a notice to the UPU from the International Civil Aviation Organization (ICAO) on August 19, 2011, requesting that the UPU delay implementation of the aforementioned amendment until the UPU revisions could be reviewed by the ICAO Dangerous Goods Panel, and if approved, incorporated into The Technical Instructions for the Safe Transport of Dangerous Goods by Air manual. Therefore, the UPU has informed its member countries that the date of newly adopted UPU amendments for lithium batteries will be the subject of further notice based on the decision of the panel and any changes to the ICAO Technical Instructions.

Accordingly, the Postal Service withdraws its final rule published on August 25, 2011. The Postal Service also withdraws the revision to 39 CFR 20.1 whereby a new section 135.6 was added to the Mailing Standards of the United States Postal Service, International Mail Manual (IMM®) to describe the new maximum limits for the outbound mailing of lithium batteries to international, or APO, FPO or DPO locations. The parallel changes that were to be made to other USPS publications are also withdrawn.

Stanley F. Mires,
Chief Counsel, Legislative.

[FR Doc. 2011-23054 Filed 9-8-11; 8:45 am]

BILLING CODE 7710-12-P